DEPARTMENT OF THE INTERIOR

National Park Service

Notice of Inventory Completion: Wisconsin Historical Society, Museum Division, Madison, WI

AGENCY: National Park Service, Interior.

ACTION: Notice.

Notice is here given in accordance with the Native American Graves Protection and Repatriation Act (NAGPRA), 25 U.S.C. 3003, of the completion of an inventory of human remains and an associated funerary object in the possession of the Wisconsin Historical Society (aka State Historical Society of Wisconsin), Museum Division, Madison, WI. The human remains and associated funerary object are assumed to have been removed from Madeline Island, Ashland County, WI.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

A detailed assessment of the human remains was done by Wisconsin Historical Society professional staff in consultation with the Great Lakes Ojibwe Cultural Protection and Repatriation Alliance, a non-federally recognized Indian group, and the Wisconsin Inter-tribal Repatriation Committee, a non-federally recognized Indian group with Federally-recognized member Indian tribes (Bad River Band of the Lake Superior Tribe of Chippewa Indians of the Bad River Reservation, Wisconsin; Lac Courte Oreilles Band of Lake Superior Chippewa Indians of Wisconsin; Lac du Flambeau Band of Lake Superior Chippewa Indians of Wisconsin; Red Cliff Band of Lake Superior Chippewa Indians of Wisconsin; St. Croix Chippewa Indians of Wisconsin; and the Sokaogon Chippewa Community, Wisconsin).

At an unknown date, human remains representing a minimum of one individual were most likely removed from Madeline Island, Ashland County, WI, possibly by Al Galazen. No known individual was identified. The one associated funerary object is a soil matrix, which includes within it a textile fragment, trade beads, nail fragments, and metal fragments.

In 2008, staff at the Madeline Island Museum located a box containing what appeared to be a soil matrix with burial related objects, including possible human remains. The box was transferred to the Wisconsin Historical Society, where professional staff examined the contents and positively identified the presence of human remains, representing a minimum of one individual. The textile fragment, beads, nails, and metal fragments were enveloped inside the soil matrix. Provenience information is limited to an inscription on the outside of the box, “Madeline Island Al Galazen.” Al Galazen (1903-1992) was a well-known collector from Madeline Island who donated most of his personal collection of archeological materials to the Madeline Island Museum. The individual is believed to be of Native American ancestry, based on the presence of trade beads within the soil matrix and the known collecting practices of the presumed donor, Al Galazen. The contents of the soil matrix date to the Historic Period.

Consultation with the Great Lakes Ojibwe Cultural Protection and Repatriation Alliance and the Wisconsin Inter-tribal Repatriation Committee indicated that the Bad River Band of the Lake Superior Tribe of Chippewa Indians of the Bad River Reservation, Wisconsin, and Red Cliff Band of Lake Superior Chippewa Indians of Wisconsin, are known to have inhabited the region during the Historic Period. Further consultation resulted in the identification of the Red Cliff and Bad River Bands as being direct descendents of Chief Buffalo and the occupants of the village on Madeline Island (Treaty of La Pointe, 1854). Finally, the Ojibwe bands consider Madeline Island to be sacred.

Officials of the Wisconsin Historical Society, Museum Division, have determined that, pursuant to 25 U.S.C. 3001(9), the human remains described above represent the physical remains of one individual of Native American ancestry. Officials of the Wisconsin Historical Society, Museum Division, also have determined that, pursuant to 25 U.S.C. 3001(3)(A), the one object described above is reasonably believed to have been placed with or near individual human remains at the time of death or later as part of the death rite or ceremony. Lastly, officials of the Wisconsin Historical Society, Museum Division, have determined that, pursuant to 25 U.S.C. 3001(2), there is a relationship of shared group identity that can be reasonably traced between the human remains and associated funerary object and the Bad River Band of the Lake Superior Tribe of Chippewa Indians of the Bad River Reservation, Wisconsin, and Red Cliff Band of Lake Superior Chippewa Indians of Wisconsin.

Representatives of any other Indian tribe that believes itself to be culturally affiliated with the human remains should contact Jennifer L. Kolb, Wisconsin Historical Museum, 30 N. Carroll St., Madison, WI 53703, telephone (608) 261-2461, before September 24, 2010. Repatriation of the human remains and associated funerary object to the Bad River Band of the Lake Superior Tribe of Chippewa Indians of the Bad River Reservation, Wisconsin, and Red Cliff Band of Lake Superior Chippewa Indians of Wisconsin, may proceed after that date if no additional claimants come forward.

The Wisconsin Historical Society, Museum Division, is responsible for notifying the Federally-recognized member Indian tribes of the Wisconsin Inter-tribal Repatriation Committee: Bad River Band of the Lake Superior Tribe of Chippewa Indians of the Bad River Reservation, Wisconsin; Lac Courte Oreilles Band of Lake Superior Chippewa Indians of Wisconsin; Lac du Flambeau Band of Lake Superior Chippewa Indians of Wisconsin; Red Cliff Band of Lake Superior Chippewa Indians of Wisconsin; St. Croix Chippewa Indians of Wisconsin; and the Sokaogon Chippewa Community, Wisconsin; and the Great Lakes Ojibwe Cultural Protection and Repatriation Alliance, a non-federally recognized Indian group, that this notice has been published.

Dated: August 19, 2010
David Tarler,
Acting Manager, National NAGPRA Program.

[FR Doc. 2010-21192 Filed 8-24-10; 8:45 am]

BILLING CODE 4312-50-S